DEPARTMENT OF AGRICULTURE

Forest Service

National Urban and Community Forestry Advisory Council; Notice of Meeting

AGENCY: Forest Service, USDA.

ACTION: Notice of meeting.

SUMMARY: The National Urban and Community Forestry Advisory Council will meet in Tucson, Arizona, February 15-17, 2001. The purpose of the meeting is to discuss emerging issues in urban and community forestry.

DATES: The meeting will be held February 15-17, 2001. A tour of local projects will be held on February 15 from 9:00 a.m. to 5:00 p.m.

ADDRESSES: The meeting will be held at the InnSuites, 475 North Granada, Tucson, Arizona. Individuals who wish to speak at the meeting or to propose agenda items must send their names and proposals to Suzanne M. del Villar, Executive Assistant, National Urban and Community Forestry Advisory Council, 20628 Diane Drive, Sonora, CA 95370. Individuals also may fax their names and proposed agenda items to (209) 536-9089.

FOR FURTHER INFORMATION CONTACT: Suzanne M. del Villar, Cooperative Forestry Staff, (209) 536-9201.

SUPPLEMENTARY INFORMATION: The meeting is open to the public. Council discussion is limited to Forest Service staff and Council members. However, persons who wish to bring urban and community forestry matters to the attention of the Council may file written statements with the Council staff before or after the meeting. Public input sessions will be provided and individuals who made written requests by February 9 will have the opportunity to address the Council at those sessions.

Dated: January 24, 2001.
Robin L. Thompson,
Acting Deputy Chief, State and Private Forestry.

[FR Doc. 01-2509 Filed 1-29-01; 8:45 am]

BILLING CODE 3410-11-M